DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 45134-45142, dated August 2, 2010) is amended to reflect the reorganization of the Office of Health and Safety, Office of the Chief Operating Officer, Office of the Director, Centers for Disease Control and Prevention.

Section C-B, Organization and Functions, is hereby amended as follows:

Delete in its entirety the title and functional statements for the Office of Health and Safety (CAJP), and insert the following:

Office of Safety, Health, and Environment (CAJP). The mission of the Office of Safety, Health, and Environment (OSHE) of the Centers for Disease Control and Prevention (CDC) is to help workers protect themselves as they carry out their public health mission. By helping staff create a safe, healthful workplace environment, by assisting in the prevention of work-related injury and illness, and by promoting safe work practices, the Office improves worker morale, increases efficiency and contributes to the creation of sound public health science. In carrying out its mission, OSHE: (1) Provides leadership and service for the CDC Health and Safety Program to proactively ensure safe and healthy workplaces at CDC worksites for CDC employees, contractors, and visitors (including deployed personnel), and to protect the environment and communities adjacent to CDC-owned and leased facilities; (2) promotes healthy and safe work practices to prevent injury and illness, and provides occupational medical, employee assistance, and worksite health promotion/lifestyle services; (3) provides advice and counsel to the CDC Director and other senior OD and Centers/Institute/Offices (ClO) staff on health, safety, and environment-related matters, and to individuals and organizations nationally and internationally, as requested; (4) provides advice, counsel, and direct support services to supervisors and employees on health, safety, and environment-related matters; (5) assures compliance with applicable federal, state, and local health, safety, and environmental (HSE) laws and regulations; (6) provides liaison with both CDC safety officers and staff, and other partners such as Health and Human Services (HHS) health and safety officials, Occupational Safety and Health Administration (OSHA), Environmental Protection Agency (EPA), Nuclear Regulatory Commission (NRC), and other governmental and non-governmental organizations on HSE issues; (7) coproduces the CDC/NIH Biosafety in Microbiological and Biomedical Laboratories; (8) serves as a World Health Organization Collaborating Center for Applied Biosafety Programs and Training; (9) serves as a significant resource of subject matter expertise for the national and international community in the field of biosafety; and, (10) works with key partners, such as the World Health Organization, on critical health and safety issues around the globe.

Office of the Director (CAJP1). (1) Serves as the principal advisor to the Director, CDC, with responsibility for the CDC Health and Safety Program; (2) plans, identifies, and requests required resources; directs, manages, and evaluates the operations and programs of OSHE; (3) assures coordination and cooperation among OSHE staff; (4) provides advice and counsel to the CDC Director, the Chief Operating Officer, and other senior OD and CIO officials on workplace HSE matters; (5) assures compliance with applicable federal, state, and local HSE laws, regulations, and policies; (6) develops and implements new HSE injury/illness prevention programs indicated by surveys, incident investigations, reports of unsafe/unhealthful working conditions and other means; (7) assures cross-cutting, collaborative team functionality in building and maintaining a successful safety program; (8) assures OSHE coordination with the Office of Security and Emergency Preparedness, the Building and Facilities Office, and other staff and staff service offices on HSE matters; (9) provides liaison with both CDC safety officers and staff, and other partners such as HHS, OSHA, EPA, NRC, and other governmental and non-governmental organizations on HSE issues; (10) when asked, consults with individuals and organizations nationally and internationally on issues such as laboratory safety, biosafety, occupational health issues in the biomedical laboratory and animal care setting, and deployment health and safety; (11) maintains oversight and support for the CDC safety committees in operational components with representation, attendance, interaction and collaboration, and collaboration with non-Atlanta health and safety officers and staff and (12) provides an annual report on the CDC HSE and other 4 reports required or requested by CDC management officials, HHS, and regulatory agencies.

Dated: August 22, 2010.
William P. Nichols,
Chief Operating Officer, Centers for Disease Control and Prevention.

[FR Doc. 2010-21764 Filed 9-3-10; 8:45 am]

BILLING CODE 4160-18-M